DEPARTMENT OF STATE

[Public Notice 12890]

30-Day Notice of Proposed Information Collection: Medical Examination for Visa or Immigration Benefit

ACTION: Notice of request for public comment and submission to OMB of proposed collection of information.

SUMMARY: The Department of State has submitted the information collection described below to the Office of Management and Budget (OMB) for approval. In accordance with the Paperwork Reduction Act of 1995 (PRA), we are requesting comments on this collection from all interested individuals and organizations. The purpose of this Notice is to allow 30 days for public comment.

DATES: Submit comments up to January 22, 2026.

ADDRESSES: Written comments and recommendations for the proposed information collection should be sent within 30 days of publication of this notice to www.reginfo.gov/public/do/PRAMain. Find this information collection by selecting “Currently under 30-day Review—Open for Public Comments” or by using the search function.

SUPPLEMENTARY INFORMATION:

• Title of Information Collection: Medical Examination for Visa or Immigration Benefit.

• OMB Control Number: 1405-0113.

• Type of Request: Extension without change.

• Originating Office: Bureau of Consular Affairs, Visa Office.

• From Number(s): DS-2054, DS-3025, DS-3026, and DS-3030.

• Respondents: Panel Physicians on behalf of Visa Applicants; Refugee/Asylum Applicants (including “following-to-join”); Parole Applicants with Boarding Foils.

• Estimated Number of Respondents: 800.

• Estimated Number of Responses: 146,000.

• Average Time per Response: 1 hour.

• Total Estimated Burden Time: 146,000 hours.

• Frequency: Once for each medical examination performed for a U.S. visa or immigration benefit.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Forms for this collection are completed by panel physicians on behalf of aliens seeking a visa; refugees; refugees and asylees (including following-to-join); and certain parolees. The forms record the medical information necessary to determine whether an alien has a medical or other condition affecting his or her eligibility for a visa or immigration benefit. The information requested includes the result of any diagnostic tests required for the diagnosis of diseases identified as communicable diseases of public health significance, as well as other evaluations identified as necessary to confirm a medical ineligibility under INA § 212(a)(1), 8 U.S.C. 1182(a)(1) or to comply with other requirements. Collecting this information is essential to protecting public health in the United States.

Methodology

A panel physician designated by the consular post performs a medical examination of the applicant and completes the forms according to instructions issued by the Centers for Disease Control (CDC). Respondents submit the forms to the appropriate embassy or consulate, either by providing the completed forms with the applicant in a sealed envelope or by sending them directly via courier. The information collected is retained by the Bureau of Consular Affairs. It is also provided to CDC and the Department of Homeland Security upon arrival at the port of entry.

Agency Response to 60-Day Notice Public Comments

The Department solicited public comments for a period of 60 days with the publication of 90 FR 16420 (April 17, 2025). During this initial 60-day notice-and-comment period, the Public submitted three responsive comments and raised several concerns for the Department's consideration.

Issue #1—Applicant Medical Information Access Rights: “Reclassifying the respondent as the panel physician must not inadvertently curtail an individual's ability to obtain and review his or her own medical examination records.”

Reclassification of the respondent does not change the designation of those completed DS medical forms upon which the results of the exam are recorded as visa records, which are confidential under INA 222(f) and generally may not be shared with the applicant. Panel physicians remain permitted to share their own records in the form of lab reports and similar documentation with the applicant upon request.

Issue #2—Accessibility and Appeals: “Applicants must have access to their exam results and an accessible, standardized appeals process if they believe findings are inaccurate or discriminatory.”

Applicants may request the underlying test results and medical information from the panel physician. If an applicant wishes to present additional information to attempt to overcome a refusal of an immigrant visa application, he or she may do so consistent with 22 CFR 42.81(e).

Applicants who wish to overcome medical ineligibility must file Form I-601 or I-602. These waiver forms are submitted to DHS on an individual basis. After submission and upon DHS request, CDC may review the waiver requests and supporting medical examination to provide an opinion regarding the case.

Issue #3—HIV Status Information: “The DS-2054 series must be updated to reflect that HIV is no longer a ground of inadmissibility and cannot be used as a basis for denial, delay, or stigma.”

While the proposed DS-2054 does not contain an HIV status field, the Department acknowledges the proposed DS-3026 does contain an HIV blood test field and the DS-3030 contains a field to mark a known HIV infection. All panel physicians are required to abide by CDC Technical Instructions, which provide that HIV testing is recommended for individuals with signs or symptoms of HIV infection but NOT required.

The Department defers to CDC expertise in matters related to protecting American public health, and CDC has requested the HIV fields remain on the Department's visa medical forms, noting that HIV is an important risk factor for tuberculosis (the largest cause of death among individuals with HIV infection is tuberculosis). The CDC Technical Instructions, therefore, require additional tuberculosis testing for aliens who disclose that they have HIV. The Technical Instructions make clear that HIV is not an inadmissible condition (https://www.cdc.gov/immigrant-refugee-health/hcp/panel-physicians/index.html#cdc_generic_section_3-technical-instructions), and panel physicians are not screening applicants for HIV.

Issue #4—Privacy Protection: “The Department must explicitly define how medical data is protected, limit disclosure to DHS and CDC only as necessary, and prohibit long-term storage or secondary use without applicant consent.”

An alien's decision to apply for the privilege of entry to the United States is voluntary, and furnishing medical information as part of that application process is also voluntary. Visa records, including Personal Health Information (PHI), are protected in accordance with INA Section 222(f). Consistent with Section 222(f), information may be provided to other federal agencies who need the information to administer or enforce U.S. laws and protect homeland security. An applicant for a U.S. visa or immigration benefit who subjects him- or herself to medical examination agrees to the disclosure of this PHI in accordance with federal law.

Individuals who fail to disclose requested medical information may experience processing delays and be denied a U.S. visa or immigration benefit. The Department of State's record disposition schedule notes that visa records are retained by the Department temporarily, and longer retention is authorized only if required for business use. The applicant consents to record retention when he or she chooses to apply for a U.S. visa or immigration benefit.

Issue #5: Panel Physician Bias and Medical Requirements: “The Department must ensure panel physicians are trained in trauma-informed, culturally competent care and prohibit discriminatory screening practices based on socioeconomic status, English language competency, race, gender identity, HIV status, or disability.”

The Department defers to CDC with respect to panel physician qualifications and medical examination requirements. Though designated by local U.S. embassies or consulates, panel physicians are medically trained and licensed doctors who must abide by standards and technical instructions issued by the CDC. Consular sections, in collaboration with the Visa Office and CDC, may decide to terminate an agreement with a panel physician if the physician fails to abide by these standards and instructions.

Issue #6: Financial Burden to Alien Applicants: “The Department should cap the costs of medical examinations, publish fee ranges, and ensure medical examinations remain affordable, especially for refugee and asylum applicants.”

Respondents to this information collection are panel physicians. The Paperwork Reduction Act requires agencies to estimate burden figures for the respondents to an information collection. Although subjected to the medical examination, alien applicants are not respondents as they do not complete these forms. As such, burden figures associated with out-of-pocket costs to alien applicants fall outside the scope of this Notice. The Department further notes that refugees are not responsible for medical examination fees, which are covered as part of the refugee admittance process.

John L. Armstrong,
Senior Bureau Official, Bureau of Consular Affairs, Department of State.

[FR Doc. 2025-23695 Filed 12-22-25; 8:45 am]

BILLING CODE 4710-06-P